NATIONAL AERONAUTICS AND SPACE ADMINISTRATION

[Notice: 17-045]

NASA Advisory Council; Institutional Committee; Meeting

AGENCY: National Aeronautics and Space Administration.

ACTION: Notice of meeting.

SUMMARY: In accordance with the Federal Advisory Committee Act, as amended, the National Aeronautics and Space Administration (NASA) announces a meeting of the Institutional Committee of the NASA Advisory Council (NAC). This committee reports to the NAC.

DATES: Tuesday, July 25, 2017, 8:30 a.m.-5:00 p.m.; Local Time.

ADDRESSES: National Institute of Aerospace, Room 101C, 100 Exploration Way, Hampton, VA 23666.

FOR FURTHER INFORMATION CONTACT: Mr. Todd Mullins, Executive Secretary, NAC Institutional Committee, NASA Headquarters, Washington, DC 20546; (202) 358-3831, or todd.mullins@nasa.gov.

SUPPLEMENTARY INFORMATION: The meeting will be open to the public up to the seating capacity of the room. This meeting is also available telephonically and by WebEx. You must use a touch-tone phone to participate in this meeting. Any interested person may dial the toll free access number 1-844-467-6272 or toll access number 1-720-259-6462, and then the numeric participant passcode: 180093 followed by the # sign. The WebEx link is https://nasa.webex.com/, the meeting number is 999 312 235 and the password is Meeting2017! (case sensitive).

Note: If dialing in, please “mute” your telephone.

The agenda for the meeting includes the following topics:

—Mission Support Update

—NASA Langley Research Center Institutional Perspective

—IT Transformation Update

Attendees will be requested to sign a register. It is imperative that the meeting be held on this date to accommodate the scheduling priorities of the key participants.

Carol J. Hamilton,
Acting Advisory Committee Management Officer. National Aeronautics and Space Administration.

[FR Doc. 2017-14117 Filed 7-5-17; 8:45 am]

BILLING CODE 7510-13-P